DEPARTMENT OF ENERGY

Federal Energy Regulatory Commission

[Project No. 1256-036]

Loup River Public Power District; Notice of Application Accepted for Filing, Soliciting Comments, Motions To Intervene, and Protests

Take notice that the following hydroelectric application has been filed with the Commission and is available for public inspection:

a. Type of Application: Revised Recreation Plan.

b. Project No.: 1256-036.

c. Date Filed: February 15, 2018.

d. Applicant: Loup River Public Power District.

e. Name of Project: Loup River Hydroelectric Project.

f. Location: Loup and Platte Rivers in Nance and Platte Counties, Nebraska.

g. Filed Pursuant to: Federal Power Act, 16 U.S.C. 791a-825r.

h. Applicant Contact: Neal D. Suess, President/CEO, Loup River Public Power District, 2404 Fifteenth Street, P.O. Box 988, Columbus, NE 68602, (402) 564-3171, ext. 268.

i. FERC Contact: Shana High, (202) 502-8674, shana.high@ferc.gov.

j. Deadline for filing comments, motions to intervene, and protests, is 30 days from the issuance date of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1256-036.

k. Description of Request: Article 413 of the project license required Loup River Public Power District (licensee) to make specific revisions to the Recreation Plan filed as part of its license application. These revisions include: provisions to continue operating and maintaining five parks and three trails, and remove playground equipment from Tailrace Park; drawings of the restroom at Headworks OHV Park, the volleyball court at Park Camp, the fishing pier at Lake North Park, and the trail segment along the southeast shore of Lake Babcock; procedures to ensure continued operation and maintenance of the Headworks OHV Park; a discussion about how the needs of the disabled will be considered; and an implementation schedule. The licensee's revised Recreation Plan generally incorporates these revisions. Regarding continued operation and maintenance of the Headworks Off-Highway Vehicle (OHV) Park, after the Nebraska OHV Association dissolved in September of 2016, the licensee closed the Headworks OHV Park, as OHV riding has unique challenges that are beyond the expertise of its staff. The revised Recreation Plan states that the licensee is committed to reopening the Headworks OHV area when it has the assistance of a third-party to provide the necessary expertise and liability insurance. The licensee states that it has been contacted by several organizations that are interested in filling this role.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title COMMENTS, MOTION TO INTERVENE, or PROTEST as applicable; (2) set forth in the heading the name of the applicant and the project number(s) of the application to which the filing responds; (3) furnish the name, address, and telephone number of the person intervening or protesting; and (4) otherwise comply with the requirements of 18 CFR 385.2001 through 385.2005. All comments, motions to intervene, or protests must set forth their evidentiary basis and otherwise comply with the requirements of 18 CFR 4.34(b). All comments, motions to intervene, or protests should relate to project works which are the subject of the application. Agencies may obtain copies of the application directly from the applicant. A copy of any motion to intervene or protest must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 25, 2018.
Kimberly D. Bose,
Secretary.

[FR Doc. 2018-09252 Filed 5-1-18; 8:45 am]

BILLING CODE 6717-01-P